DEPARTMENT OF COMMERCE

National Oceanic and Atmospheric Administration

RIN 0648-XE524

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by the Northeast Fisheries Science Center contains all of the required information and warrants further consideration.

Regulations under the Magnuson-Stevens Fishery Conservation and Management Act require publication of this notification to provide interested parties the opportunity to comment on Exempted Fishing Permit applications.

DATES: Comments must be received on or before April 18, 2016.

ADDRESSES: You may submit written comments by any of the following methods:

• Email: nmfs.gar.efp@noaa.gov. Include in the subject line “Comments on NEFSC Study Fleet EFP.”

• Mail: John K. Bullard, Regional Administrator, NMFS, Greater Atlantic Regional Fisheries Office, 55 Great Republic Drive, Gloucester, MA 01930. Mark the outside of the envelope “Comments on NEFSC Study Fleet EFP.”

FOR FURTHER INFORMATION CONTACT: Daniel Luers, Fishery Management Specialist, 978-282-8457, Daniel.Luers@noaa.gov.

SUPPLEMENTARY INFORMATION: The Northeast Fisheries Science Center (NEFSC) submitted a complete application for an Exempted Fishing Permit (EFP) on March 4, 2016, to enable data collection activities that the regulations on commercial fishing would otherwise restrict. The EFP would exempt 36 federally permitted commercial fishing vessels from the regulations detailed below while participating in the Study Fleet Program and operating under projects managed by the NEFSC. The EFP would exempt participating vessels from: Minimum fish size restrictions; fish possession limits for species not protected under the Endangered Species Act (ESA); gear-specific fish possession restrictions for the purpose of at-sea sampling; and, in limited situations for research purposes only, retaining and landing prohibited fish species.

The NEFSC Study Fleet Program was established in 2002 to more fully characterize commercial fishing operations and to leverage sampling opportunities to augment NMFS data collection programs. Participating vessels are contracted by NEFSC to collect tow-by-tow catch and environmental data, and to fulfill specific biological sampling needs identified by NEFSC. To collect these data, the NEFSC Study Fleet Program has obtained an EFP to secure the necessary waivers needed by the vessels to possess and land fish that would otherwise be prohibited by regulations.

Fishing vessel crews trained by the NEFSC Study Fleet Program would sort, weigh, and measure fish that are to be discarded. In the course of sampling, some discarded species would be on deck slightly longer than under normal sorting procedures, which requires an exemption from the following restrictions: Minimum fish size; fish possession limits; prohibited fish species, not including species protected under the ESA; and gear-specific fish possession restrictions for at-sea sampling.

Participating vessels would also be authorized to retain and land, in limited situations for research purposes only, fish species and/or sizes that are not in compliance with fishing regulations. The vessels would be authorized to retain specific amounts of particular species in whole or round weight condition, which would be delivered upon landing to Study Fleet Program technicians. To ensure that the collection needs of the Study Fleet Program are not exceeded, NEFSC would require participating vessels to obtain a formal Biological Sampling Request from the NEFSC Study Fleet Program prior to landing any sublegal fish. None of the landed biological samples from these trips would be sold for commercial use or utilized for any purpose other than scientific research.

The table below details the regulations from which the participating vessels would be exempt when retaining and landing fish for research purposes. The participating vessels would be obligated to comply with all applicable requirements and restrictions specified at 50 CFR part 648, unless specifically exempted in this EFP. All catch would be attributed to the appropriate commercial fishing quota. For vessels on a groundfish sector trip, all catch of Northeast multispecies stocks allocated to sectors would be deducted from the Annual Catch Entitlement (ACE) for that sector. Once the ACE for a stock has been reached in a sector, vessels would no longer be allowed to fish in that stock area, unless they acquired additional ACE for the limiting stock. For common pool vessels, all catch of Northeast multispecies stocks would be counted toward the appropriate quotas. Common pool vessels would be subject to applicable trimester total allowable catch (TAC) accountability measures. When 90 percent of the trimester TAC for a stock is projected to be caught, the area where that stock is predominantly caught will be closed to common pool vessels fishing with gear capable of catching that stock for the rest of that trimester.

NEFSC Study Fleet Program EFP
No. of Vessels | 37
Exempted regulations in 50 CFR part 648 | Size limits § 648.83 NE multispecies minimum sizes. § 648.93 Monkfish minimum fish size. § 648.147 Black sea bass minimum fish size.
| Possession restrictions § 648.86(a) Haddock. § 648.86(b) Atlantic cod. § 648.86(c) Atlantic halibut. § 648.86(d) Small-mesh multispecies. § 648.86(l) Zero retention of Atlantic wolffish and windowpane flounder. § 648.86(o) Possession limits implemented by Regional Administrator. § 648.94 Monkfish possession limit. § 648.322 Skate possession and landing restrictions. § 648.145 Black sea bass possession limits. § 648.92(b)(2)(i) Prohibition from landing NE multispecies on monkfish-only day-at-sea.

NEFSC Study Fleet Program Biological Sampling Needs

As described above, biological samples would only be landed and collected by the Study Fleet Program after a formal request has been issued in writing by the Study Fleet Program. The following are the Study Fleet Program's sampling needs.

Windowpane flounder—whole fish would be retained for age and growth research. Otoliths and fish length would be collected to validate ages using marginal increment analysis. Windowpane flounder retained would not exceed 40 fish per month from all stock areas combined (Gulf of Maine (GOM) and Georges Bank (GB) stock) or 480 fish total for all trips. The maximum weight on any trip would not exceed 30 lb (13.6 kg), and total weight would not exceed 360 lb (163.3 kg) for all trips combined.

Atlantic wolffish—whole fish would be retained for maturity, fecundity, and life history research. Atlantic wolffish retained would not exceed 40 fish per month or 480 fish total for all trips. The maximum weight on any trip would not exceed 160 lb (72.6 kg), and total weight would not exceed 3,500 lb (1,587.6 kg) for all trips combined.

Cusk—whole fish would be retained or specimen sampled at sea by a Study Fleet scientist for maturity, fecundity, and life history research. Cusk retained would not exceed 40 fish per month or 480 fish total for all trips. The maximum weight on any trip would not exceed 100 lb (45.4 kg), and total weight would not exceed 1,440 lb (653.2kg) for all trips combined.

Atlantic halibut—specimens would be sampled at sea by a Study Fleet scientist for age, growth, maturity, fecundity, and diet research. Atlantic halibut retained would not exceed 20 fish per month or 240 fish total for all trips. The maximum weight on any trip would not exceed 200 lb (90.7 kg), and total weight would not exceed 5,000 lb (2,268 kg) for all trips combined.

Monkfish—whole fish would be retained for maturity and fecundity research. Monkfish retained would not exceed 10 fish per month or 120 fish total for all trips. The maximum weight on any trip would not exceed 100 lb (45.4 kg), and total weight would not exceed 1,200 lb (544.3 kg) for all trips combined.

Haddock—whole fish would be retained for maturity and fecundity research. Haddock retained would not to exceed 40 fish per month or 360 fish total for all trips. The maximum weight on any trip would not exceed 180 pounds (81.6 kg), and total weight would not exceed 1,440 pounds (653.2 kg) for all trips combined.

Atlantic cod—whole fish would be retained for potential maturity, fecundity, bioelectrical impedance analysis (BIA), food habits, and genetic research. Atlantic cod retained would not exceed 200 fish per month from each of the three stock areas (GOM, GB, Southern New England/Mid-Atlantic), or 1,200 fish total from each stock area for all trips. The maximum weight on any trip would not exceed 300 lb (136.1 kg), and total weight would not exceed 8,500 lb (3,855.5 kg) for all trips combined.

Barndoor Skate—whole and, in some cases, live skates would be retained for age and growth research and species confirmation. Barndoor skates retained would not exceed 20 fish per 3-month period, or 80 skates total for all trips. The maximum weight on any trip would not exceed 75 lb (34 kg), and total weight would not exceed 300 lb (136.1 kg) for all trips combined.

Thorny Skate—whole and, in some cases, live skates would be retained for age and growth research and species confirmation. Thorny skates retained would not exceed 20 fish per 3-month period, or 80 skates total for all trips. The maximum weight on any trip would not exceed 75 lb (34 kg) whole weight, and total weight would not exceed 300 lb (136.1 kg) for all trips combined.

Black Sea Bass—whole fish would be retained in support of an ongoing study at NEFSC to evaluate BIA as a means to measure fish energy density and reproductive potential for stock assessment. Black sea bass retained would not exceed 75 fish per 3- month period, or 300 black sea bass total for all trips. The maximum weight on any trip would not exceed 250 lb (113.4 kg), and total weight would not exceed 1,000 lb (453.6 kg) for all trips combined.

If approved, the applicant may request minor modifications and extensions to the EFP throughout the year. EFP modifications and extensions may be granted without further notice if they are deemed essential to facilitate completion of the proposed research and have minimal impact that does not change the scope of the initially approved EFP request. Any fishing activity conducted outside the scope of the exempted fishing activity would be prohibited.

Authority: 16 U.S.C. 1801 et seq.

Dated: March 29, 2016.
Emily H. Menashes,
Acting Director, Office of Sustainable Fisheries, National Marine Fisheries Service.

[FR Doc. 2016-07399 Filed 3-31-16; 8:45 am]

BILLING CODE 3510-22-P